DEPARTMENT OF DEFENSE

Department of the Navy

[Docket ID USN-2014-0012]

Proposed Collection; Comment Request

AGENCY: Department of the Navy, DoD.

ACTION: Notice.

SUMMARY: In compliance with Section 3506(c)(2)(A) of the Paperwork Reduction Act of 1995, the Commander, Naval Service Training Command announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 28, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Commander, Naval Service Training Command, 2601A Paul Jones Street, Great Lakes, IL 60088, or call at (847) 688-7828.

SUPPLEMENTARY INFORMATION:

Title; Associated Form; and OMB Number: Application Forms and Information Guide, Naval Reserve Officers Training Corps (NROTC) Scholarship Program; OMB Control Number 0703-0026.

Needs and Uses: This collection of information is used to make a determination of an applicant's academic and/or leadership potential and eligibility for an NROTC scholarship. The information collected is used to select the best-qualified candidates.

Affected Public: Individuals or Households.

Annual Burden Hours: 56,000 hours.

Number of Respondents: 14,000.

Responses per Respondent: 1.

Total Annual Responses: 14,000.

Average Burden per Response: 4 hours.

Frequency: Annually.

Applicant submits application via Web site, https://www.nrotc.navy.mil/apply.aspx. Application data is stored on secure servers located at Saufley Data Center, Naval Air Station Pensacola, FL. Applicant accesses the application via registration on Web site and password. Once application has been submitted it is a locked document. Data is accessed for selection board review by authorized need to know processers and board members.

Dated: May 22, 2014.
Aaron Siegel,
Alternate OSD Federal Register Liaison Officer, Department of Defense.

[FR Doc. 2014-12288 Filed 5-27-14; 8:45 am]

BILLING CODE 5001-06-P